COMMITTEE FOR PURCHASE FROM PEOPLE WHO ARE BLIND OR SEVERELY DISABLED

Correction of Notice of Addition

AGENCY: Committee for Purchase From People Who Are Blind or Severely Disabled.

ACTION: Correction to Notice of Additions to the Procurement List.

SUMMARY: In the document appearing on page 46187, FR Doc E6-13162, Procurement List Additions and Deletions, in the issue of August 11, 2006, in the third column, the Committee published addition of Grounds/Custodial Security Services, Lake Okeechobee and Outlying Areas, Army Corps of Engineers, Lake Okeechobee, Florida. Following the publication of this Notice, the Committee determined that the response to comments received in response to the Federal Register Notice of Proposed Addition had not been published in the August 11 Notice as required. The Committee therefore is publishing the Service again with the response to comments received. All other information remains the same.

DATES: Effective Date: September 10, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

Addition

Service Type/Location: Grounds/Custodial/Security Services, Lake Okeechobee and Outlying Areas, Army Corps of Engineers, Lake Okeechobee, Florida.

NPA: Gulfstream Goodwill Industries, Inc., West Palm Beach, Florida.

Contracting Activity: U.S. Army Corps of Engineers, Jacksonville, Florida.

The following material is in response to comments received on this proposed addition. This information was provided to the Committee for their consideration.

Comments were received from the current contractor, a subcontractor for the service, an employee of the subcontractor, and a frequent camper on parkland involved in this service. All these persons objected to addition of the service to the Procurement List.

The service to be performed by a nonprofit agency has been removed from the coverage of the current contract. The current contractor claimed that removal of these functions will result in a significant reduction in the contractor's revenue base and severely affect its financial stability, while making it less competitive to recover the revenue elsewhere.

The period for which the contractor submitted revenues to the Committee includes windfall revenues due to increased hurricane activity during that period. Removal of these windfalls reduces the estimated revenue loss attributable to the addition of the service to the Procurement List to a level which the Committee does not normally consider to be an adverse impact on a contractor.

The subcontractor and its employee indicated that addition of the service to the Procurement List would have a serious economic impact on the company, its workers, and the depressed rural area where the service is performed. The nonprofit agency which will be performing the service will do some subcontracting, which could mitigate this economic impact. In addition, people with severe disabilities have an unemployment rate of approximately 70 percent, which exceeds the unemployment rate of the persons likely to be adversely affected by this addition to the Procurement List. Consequently, the affected persons are more likely than those who will be employed on the project to find other work. Given that circumstance, and the Committee's mission to create work for people with severe disabilities, the Committee believes that the employment benefits of adding this service to the Procurement List outweigh the possible disadvantages the addition may cause.

The subcontractor and its employee also raised several safety and technical issues concerning performance of the service by people with severe disabilities. They noted that some mowing must be done on a high levee with extremely steep sides and surrounded by deep canals, and other mowing is done in park areas filled with expensive recreational vehicles and other easily damaged obstacles, as the frequent camper also noted. The subcontractor employee asked if the nonprofit agency has any experience in doing this kind of work. The subcontractor implied that acquisition of the equipment needed to do the work would put a further strain on the national budget.

The nonprofit agency has several grounds maintenance and custodial contracts with the State of Florida, so they are familiar with this kind of work. They are in the process of obtaining the specialized equipment needed to do the work and hiring qualified personnel. The Government will not pay extra to allow the nonprofit agency to acquire this equipment, which includes enclosed cab tractors with built-in and included safety equipment. The nonprofit agency will conduct extensive safety and other training to assure the workers are fully capable of doing the work. More experienced workers will be used in the steeper areas, and the use of people with severe disabilities will be phased in to all facets of the work, which includes custodial and security as well as grounds maintenance services, to assure that all workers are able to do the work safely and efficiently, with little or no damage to persons or property.

After consideration of the material presented to it concerning capability of qualified nonprofit agencies to provide the products and impact of the additions on the current or most recent contractors, the Committee has determined that the service listed below is suitable for procurement by the Federal Government under 41 U.S.C. 46-48c and 41 CFR 51-2.4.

Sheryl D. Kennerly,
Director, Information Management.

[FR Doc. E6-13672 Filed 8-17-06; 8:45 am]

BILLING CODE 6353-01-P